DEPARTMENT OF ENERGY

Federal Energy Regulatory Commission

[Docket No. CP08-429-000]

Kern River Gas Transmission Company; Notice of Application

July 7, 2008.

Take notice that on June 20, 2008, Kern River Gas Transmission Company (Kern River), 2755 East Cottonwood Parkway, Suite 300, Salt Lake City, Utah 84121, filed an abbreviated application in the above referenced docket pursuant to section 7(c) of the Natural Gas Act (NGA), and Subpart 157 of the Commission's regulations, for an order granting (1) a certificate of public convenience and necessity authorizing Kern River to construct and/or modify, and operate the facilities needed to expand its year-round, firm transportation capacity from Opal receipt meter in Lincoln County, Wyoming, to the Daggett-PG&E and Kramer Junction delivery meters in San Bernardino County, California, by 145,000 Dth/d; (2) an increase to its certificate pipeline maximum allowable operating pressure (MAOP) from 1,200 psig to 1,333 psig, and an increase to its certificated compressor and meter station MAOP from 1,250 psig to 1,350 psig; (3) predetermination that the costs and fuel usage associated with Kern River's 2010 Expansion may be rolled into Kern River's 2003 Expansion for transportation rate and fuel reimbursement purposes; (4) approval of regulatory asset/liability accounting for differences between book and regulatory depreciation resulting from use of Kern River's levelized rate design; (5) approval of Kern River's proposed accounting treatment for contributions in aid of construction integral to the 2010 Expansion design; and, (6) acceptance of the pro forma tariff sheets included in Exhibit P to the application, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

The proposed new facilities, modifications to existing facilities and the requested MAOP uprate include (1) installation of a new 20,500 ISO-rated horsepower turbine driven compressor at the Muddy Creek compressor station B Plant in Lincoln County, Wyoming; (2) compressor restaging at the Muddy Creek and Painter compressor stations; and (3) installation of additional measurement equipment at the Opal and Kramer Junction meter stations. The proposed additions, modifications and uprates will add a net 20,500 ISO-rated horsepower to the Kern River system, increasing its summer design capacity from 1,731,126 Dth/d to 1,876,126 Dth/d. The estimated total cost of the proposed 2010 Expansion is $62.1 million, which will be financed with internally generated funds. Kern River proposes to charge 2010 Expansion shippers the transportation rates and fuel reimbursement charges applicable to Kern River's 2003 Expansion.

Any questions concerning this application may be directed to Billie L. Tolman, Manager, Regulatory Affairs, Kern River Gas Transmission Company, 2755 East Cottonwood Parkway, Suite 300, Salt Lake City, Utah 84121, at (801) 937-6176.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: July 28, 2008.

Kimberly D. Bose,
Secretary.

[FR Doc. E8-15884 Filed 7-11-08; 8:45 am]

BILLING CODE 6717-01-P